DEPARTMENT OF THE INTERIOR

National Park Service

[NPS-SERO-NCPTT-38001; PPWOCRADTI, PCU00PT14.GT0000]

Preservation Technology and Training Board Notice of Public Meeting

AGENCY: National Park Service, Interior.

ACTION: Meeting notice.

SUMMARY: In accordance with the Federal Advisory Committee Act of 1972, as amended, the National Park Service (NPS) is hereby giving notice that the Preservation Technology and Training Board (Board) of the National Center for Preservation Technology and Training (NCPTT) will meet as indicated below.

DATES: The in-person meeting will take place from 9:00 a.m. to 5:00 p.m. (Central) or until business is completed on Wednesday, July 17, 2024, and from 9:00 a.m. to 12:00 p.m. (Central) on Thursday, July 18, 2024.

ADDRESSES: The Board will meet at The University of Texas at San Antonio downtown campus, 501 W Cesar Chavez Boulevard, Frio Street Building, San Antonio, Texas 78207.

FOR FURTHER INFORMATION CONTACT: Anyone interested in attending should contact Kirk A. Cordell, Executive Director, National Center for Preservation Technology and Training, 645 University Parkway, Natchitoches, Louisiana 71457, by telephone (318) 356-7444, or by email kirk_cordell@nps.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Board was established by Congress to provide leadership, policy advice, and professional oversight to the NCPTT in compliance with section 404 of the National Historic Preservation Act of 1966, as amended (54 U.S.C. 305303). All meetings are open to the public and will have time allocated for public comment.

Purpose of the Meeting: The Board meeting will consist of the following proposed agenda items:

1. Review and Comment on NCPTT FY 2023 Accomplishments, and Operational Priorities for FY 2024

2. FY 2023 and FY 2024 NCPTT Budget and Initiatives

3. Research Activities

4. Training Activities

5. Public Comments

6. Adjournment

The final agenda will be posted on the Board's website at https://www.nps.gov/subjects/ncptt/ptt-board.htm. Interested persons may present, either orally or through written comments, information for the Board to consider during the public meeting. Written comments will be accepted prior to, during, or after the meeting. Members of the public may submit written comments by mailing them to the person listed in the FOR FURTHER INFORMATION CONTACT section.

Due to time constraints during the meeting, the Board is not able to read written public comments submitted into the record. Individuals or groups requesting to make oral comments at the public Board meeting will be limited to no more than three minutes per speaker. All comments will be made part of the public record and will be electronically distributed to all Board members. Detailed minutes of the meeting will be available for public inspection within 90 days of the meeting.

Requests for Accommodations: The meeting is open to the public. Please make requests in advance for sign language interpreter services, assistive listening devices, language translation services, or other reasonable accommodations. We ask that you contact the person listed in the FOR FURTHER INFORMATION CONTACT section of this notice at least seven (7) business days prior to the meeting to give the Department of the Interior sufficient time to process your request. All reasonable accommodation requests are managed on a case-by-case basis.

Public Disclosure of Comments: Before including your address, phone number, email address, or other personal identifying information in your written comments, you should be aware that your entire comment including your personal identifying information will be publicly available. While you can ask us in your comment to withhold your personal identifying information from public review, we cannot guarantee that we will be able to do so.

Authority: 5 U.S.C. ch. 10.

Alma Ripps,
Chief, Office of Policy.

[FR Doc. 2024-14221 Filed 6-27-24; 8:45 am]

BILLING CODE 4312-52-P